DEPARTMENT OF THE INTERIOR

Bureau of Land Management

[CA-330-1820-DH-014B]

Headwaters Forest Reserve, California; Environmental Impact Statement; Extension of scoping Comment Period

AGENCY: Bureau of Land Management in Partnership with California Department of Fish and Game.

ACTION: Extension of scoping comment period.

SUMMARY: A Notice of Intent to prepare an Environmental Impact Statement (EIS)/Environmental Impact Report (EIR) for the adoption of a Management Plan for the Headwaters Forest Reserve in the northcoast area of California, and to announce three public scoping meetings, was published in the Federal Register June 2, 2000 (Volume 65, Number 107). A scoping comment deadline of July 3, 2000 was also cited and extended by subsequent Federal Register on June 23 to August 4, 2000 (Volume 65, Number 122). The scoping comment deadline is hereby extended to August 18, 2000 by this notice. This extension is intended to provide the public with additional time to prepare and submit comments.

SUPPLEMENTARY INFORMATION: An internet web page describes in detail the scope of the proposed plan and provides background information on the Headwaters Forest Reserve. The web page contains instructions for submitting scoping comments, and coding of comments by subject is requested. The internet address of the web site of www.ca.blm.gov/arcata/headwaters.html. The deadline for submitting comments is amended to Friday, August 18, 2000.

FOR FURTHER INFORMATION CONTACT: Lynda J. Roush, Arcata Field Manager, at 707-825-2300 or Headwaters Forest Reserve Management Plan Information Line, 916-737-3010, extension 4326. Email comments should be sent to headwatersplan@att.net, or comment letters should be mailed to P.O. Box 189445, Sacramento, California 95818-9445.

Lynda J. Roush,
Arcata Field Manager.

[FR Doc. 00-17576 Filed 7-11-00; 8:45 am]

BILLING CODE 4310-40-P